COMMITTEE FOR PURCHASE FROM PEOPLE WHO ARE BLIND OR SEVERELY DISABLED

Procurement List; Correction: Proposed Addition

The Committee's Notice publication on January 16, 2009 at 74 FR 2993-2994 (FR Doc. E9-898 Filed 1-15-09) proposing to add services for a Base Information Transfer Center to the Procurement List included an incorrect State for one location. The location listed as Whiteman AFB, NM should have been Whiteman AFB, MO.

This Notice corrects that Notice of Proposed Addition to the Procurement List to read as follows:

Service Type/Location: Base Information Transfer Center, BITC, Multiple Locations, AF Air Combat Command, 740 Arnold Ave, 1C, Whiteman AFB, MO.

Contracting Activity: Dept. of the Air Force, FA4890 ACC CONS LGC.

NPA: The Arc of the Virginia Peninsula, Inc., Hampton, VA.

Barry S. Lineback,
Director, Program Operations.

[FR Doc. E9-4241 Filed 2-26-09; 8:45 am]

BILLING CODE 6353-01-P